FEDERAL MARITIME COMMISSION

Ocean Transportation Intermediary License; Rescission of Order of Revocation

The Commission gives notice that it has rescinded its Order revoking the following license pursuant to section 40901 of the Shipping Act of 1984 (46 U.S.C. 40101).

License No.: 015187N.

Name: Gage Shipping Lines, Ltd.

Address: 23 South Street, Baltimore, MD 21202.

Order Published: July 18, 2012 (Volume 77, No. 138, Pg. 4231)

Vern W. Hill,
Director, Bureau of Certification and Licensing.

[FR Doc. 2012-19411 Filed 8-7-12; 8:45 am]

BILLING CODE 6730-01-P